FEDERAL RESERVE SYSTEM

Consumer Advisory Council

AGENCY: Board of Governors of the Federal Reserve System

ACTION: Notice of Meeting of Consumer Advisory Council

The Consumer Advisory Council will meet on Thursday, October 26, 2006. The meeting, which will be open to public observation, will take place at the Federal Reserve Board's offices in Washington, D.C., in Dining Room E on the Terrace level of the Martin Building. Anyone planning to attend the meeting should, for security purposes, register no later than Tuesday, October 24, by completing the form found on-line at: https://www.federalreserve.gov/secure/forms/cacregistration.cfm

Additionally, attendees must present photo identification to enter the building.

The meeting will begin at 9:00 a.m. EDT and is expected to conclude at 12:30 p.m. The Martin Building is located on C Street, NW, between 20th and 21st Streets.

The Council's function is to advise the Board on the exercise of the Board's responsibilities under various consumer financial services laws and on other matters. Time permitting, the Council will discuss the following topics:

• Fair and Accurate Credit Transactions Act (FACT Act)

• Nontraditional Mortgage Products

• Affordable Housing

Reports by committees and other matters initiated by Council members also may be discussed.

Persons wishing to submit views to the Council on any of the above topics may do so by sending written statements to Kyan Bishop, Secretary of the Consumer Advisory Council, Division of Consumer and Community Affairs, Board of Governors of the Federal Reserve System, Washington, D.C. 20551. Information about this meeting may be obtained from Ms. Bishop, 202-452-6470.

Board of Governors of the Federal Reserve System, September 28, 2006.
Jennifer J. Johnson
Secretary of the Board

[FR Doc. E6-16266 Filed 10-2-06; 8:45 am]

BILLING CODE 6210-01-S